NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 19, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by fax to 301-713-6852 or by e-mail to records.mgt@arch2.nara.gov. Requesters must cite the control number, which appears in parentheses after the name of the agency which submitted the schedule, and must provide a mailing address. Those who desire appraisal reports should so indicate in their request.

FOR FURTHER INFORMATION CONTACT: Michael Miller, Director, Modern Records Programs (NWM), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Research Service (N1-310-98-2, 2 items, 2 temporary items). Analytical reports and related materials pertaining to the evaluation of pesticides and commodities for potential benefits and risks under the National Agricultural Pesticide Impact Program. Also included are electronic copies of records created using electronic mail and word processing.

2. Department of the Army, Agency-wide (N1-AU-02-2, 2 items, 2 temporary items). Records relating to the receipt, storage, maintenance, and disposition of installed property and facilities engineering stock. Included are vouchers, stock record cards, purchase orders, property turn-in slips, and inventory adjustment reports. Also included are electronic copies of documents created using electronic mail and word processing. The schedule also authorizes the agency to apply the proposed disposition instructions to any recordkeeping medium.

3. Department of Commerce, Emergency Steel Loan Guarantee Board and Emergency Oil and Gas Guaranteed Loan Board, (N1-40-01-3, 6 items, 4 temporary items). Loan guarantee records, including electronic copies of records created using electronic mail and word processing. Proposed for permanent retention are recordkeeping copies of program correspondence and files of Board meeting minutes and testimony.

4. Department of Defense, Joint Staff (N1-218-00-3, 42 items, 36 temporary items). Records relating to personnel and payroll matters accumulated by the Joint Staff and combatant commands. Records relate to such matters as directives, general personnel and payroll administration, civilian employment, merit pay, pay differentials and allowances, retirement operations, displaced employee programs, equal employment opportunity surveys, labor management relations, promotions and demotions, military awards and assignments, training, time and attendance, and employee political activities. Also included are electronic copies of documents created using electronic mail and word processing and electronic systems maintained at combatant commands that feed into systems maintained at higher levels. Recordkeeping copies of records documenting such matters as decorations to civilians and foreign nationals, military awards, nominations for promotion submitted to the Secretary of Defense, casualty reporting, and training and education programs are proposed for permanent retention.

5. Department of Defense, Defense Information Systems Agency (N1-371-02-1, 4 items, 4 temporary items). Records relating to the Defense Department's Public Key Infrastructure program. Included are paper copies and scanned images of completed forms documenting subscriptions to the Department of Defense Public Key Infrastructure and related actions. Also included are electronic copies of documents created using electronic mail and word processing.

6. Department of Defense, Defense Contract Audit Agency (N1-372-01-3, 6 items, 6 temporary items). Records pertaining to the management of the agency Web site. Included are policies and procedures, Web site usage statistics, and recurring reports. Also included are electronic copies of documents created using electronic mail and word processing. This schedule also authorizes the agency to apply the proposed disposition instructions to any recordkeeping medium.

7. Department of Defense, National Reconnaissance Office (N1-525-02-1, 11 items, 10 temporary items). Audit files, posters covering routine events and subjects, poster production materials, equipment and property accounting files, certification authority records, and application system security files. Also included are electronic copies of documents created using electronic mail and word processing. Proposed for permanent retention are posters relating to mission-related subjects, such as agency facilities, operations, achievements, and historical commemorations.

8. Department of Energy, Office of the Executive Secretariat (N1-434-00-5, 4 items, 4 temporary items). Correspondence from the general public addressed to the President of the United States relating to energy that has been forwarded to the agency for response as well as public correspondence addressed to the Secretary of Energy. Also included are electronic copies of documents created using electronic mail and word processing.

9. Department of the Interior, National Park Service (N1-79-01-1, 2 items, 2 temporary items). Administrative case files accumulated by the Historic American Buildings Survey/Historic American Engineering Record relating to efforts to document endangered structures. Also included are electronic copies of records created using electronic mail and word processing.

10. Department of State, Bureau of Human Resources (N1-59-00-11, 15 items, 13 temporary items). Records relating to performance evaluations of agency employees and the granting of awards, including subject files and tracking databases. Also included are electronic copies of documents created using electronic mail and word processing. Proposed for permanent retention are recordkeeping copies of general subject files documenting the performance evaluation of Foreign Service Officers and promotion board meeting files.

11. Department of State, Bureau of Political-Military Affairs (N1-59-01-17, 15 items, 13 temporary items). Records of the Office of International Security Operations relating to such matters as clearances for overflights, foreign employment, medical requests, military exercises, counter-drug operations and deployments, and daily activity reporting. Also included are electronic copies of documents created using electronic mail and word processing. Proposed for permanent retention are recordkeeping copies of subject files on international security operations and files that relate to specific issues, such as human rights, port visits, military exercises, and humanitarian assistance.

12. Department of the Treasury, Bureau of the Public Debt (N1-53-02-1, 10 items, 10 temporary items). Electronic system containing annual maintenance fee information for investor accounts exceeding a thresh-hold par value. Included are inputs, outputs, master files, and system documentation. Also included are electronic copies of system documentation created using electronic mail and word processing.

13. Department of the Treasury, Bureau of the Public Debt (N1-53-02-2, 8 items, 8 temporary items). Electronic system containing transactional information and verification tables for securities investors conducting purchases or reinvestments via telephone or the Internet. Included are inputs, outputs, master files, and system documentation. Also included are electronic copies of system documentation created using electronic mail and word processing.

14. Tennessee Valley Authority, Fossil Power Group (N1-142-02-2, 3 items, 3 temporary items). Records relating to safety inspections of heavy machinery and equipment. Included are such records as visual inspection checklists, monthly crane safety inspections, and daily truck inspection reports. Also included are electronic copies of documents created using electronic mail and word processing.

Dated: December 19, 2001.
Michael J. Kurtz,
Assistant Archivist for Record Services—Washington, DC.

[FR Doc. 01-32174 Filed 12-31-01; 8:45 am]

BILLING CODE 7515-01-P